DEPARTMENT OF AGRICULTURE

Forest Service

Malheur, Umatilla, and Wallowa-Whitman National Forests; Oregon and Washington; Revision of Land Management Plan for the Blue Mountains Forests

AGENCY: Forest Service, Agriculture (USDA).

ACTION: Notice of intent to initiate the assessment phase of the land management plan revision for the Malheur, Umatilla, and Wallowa-Whitman National Forests.

SUMMARY: The Forest Service, U.S. Department of Agriculture, is initiating the Land Management Plan revision process for the Malheur, Umatilla, and Wallowa-Whitman National Forests (Blue Mountains Forests), located in northeast Oregon and southeast Washington. This process will result in three revised Land Management Plans to guide all resource management activities on the Blue Mountains Forests for approximately fifteen years. This notice announces the initiation of the assessment phase, the preliminary stage of the plan revision process. Assessments will identify and consider relevant and readily accessible material about ecological, social, and economic conditions and trends in the planning area, including best available scientific information. Findings will be documented in an assessment report. Trends and conditions identified in the assessment will help describe a need to change the existing plans and inform the revision of the three Land Management Plans.

DATES: The public will be invited to review the draft assessment and participate in this phase of the revision in the fall of 2023. Engagement opportunities will be posted on the Blue Mountains Forest Plan Revision website: https://www.fs.usda.gov/detail/umatilla/home/?cid=fseprd1066821. Consultation with the Tribes will also be conducted as part of the assessment phase of the revision. Information will be shared through mailing lists, social media, and other media outlets. The draft assessment is anticipated for public review and comment in fall 2023 and will be announced in the newspapers of record for the Malheur, Umatilla, and Wallowa-Whitman National Forests. The Forest Service will review and incorporate public comments and additional information from tribal consultation on the draft assessment and produce a final assessment to inform plan revision. The Forest Service may then initiate procedures pursuant to the National Environmental Policy Act (NEPA) to prepare revised Land Management Plans.

ADDRESSES: For questions about Land Management Plan revision or comments on initiating the assessment phase of plan revision, please address mail to: Umatilla National Forest, Attn: Darcy Weseman—Blues Forest Plan Revision, 72510 Coyote Rd., Pendleton, OR 97801 or via email to sm.fs.bluesforests@usda.gov. The majority of the revision team is located at the Umatilla National Forest Headquarters (72510 Coyote Rd., Pendleton, OR 97801); however, all three locations can provide information as requested: Malheur National Forest located at 431 Patterson Bridge Rd., John Day, OR 97845 and Wallowa-Whitman National Forest located at 1550 Dewey Avenue, Suite A, Baker City, Oregon 97814.

FOR FURTHER INFORMATION CONTACT: Michael Neuenschwander, Revision Team Leader at michael.neuenschwander@usda.gov or by phone 509-703-7525. Individuals who use telecommunication devices for the deaf and hard of hearing (TDD) may call the Federal Information Relay Service (FIRS) at 800-877-8339, 24 hours a day, every day of the year, including holidays.

SUPPLEMENTARY INFORMATION: The National Forest Management Act (NFMA) of 1976 requires that the Forest Service develop a Land Management Plan (Plan), for every national forest. Each National Forest and Grassland in the United States is governed by a Plan in accordance with the NFMA. Plans set desired conditions, standards, and guidelines for management, protection, and use of the Forest.

The Malheur, Umatilla, and Wallowa-Whitman Land Management Plans provide management direction for approximately 5.5 million acres of public lands and working forests under Forest Service management in northeastern Oregon and southeastern Washington. The Forest Service began efforts to revise the Plans in 2004, with the goal of replacing the existing Plans that took effect in 1990. Updating the Land Management Plans is important for providing a framework to address current economic, social, and ecological conditions in and around the Blue Mountains area. Multiple uses provided by the National Forest, including livestock grazing, timber harvest, forest recreation, tourism, and subsistence activities, are all important to economic and social life in the Blue Mountains area. The Forest Service previously attempted to revise the Blue Mountains Land Management Plans with a highly contentious planning effort that spanned 15 years. Ultimately, the Forest Service withdrew the Blue Mountains Revised Land Management Plans and Final Environmental Impact Statement in March 2019, before the plans were finalized and implemented. Afterward, Forest Service leadership from the Pacific Northwest Regional Office and the Malheur, Umatilla, and Wallowa-Whitman National Forests met with the Eastern Oregon Counties Association to better understand concerns and identify opportunities to approach forest planning and management in a new way. The participants recognized the need to work together at a larger scale, which included working with other government entities within and surrounding the Blue Mountains geographic area that were most impacted by the Plans. The various government entities officially formed the Blues Intergovernmental Council (BIC) in November 2019, to develop joint recommendations on the most contentious issues identified in the Blue Mountains Land Management Plan Revision process. These recommendations will serve as a baseline to be further informed by public engagement, as well as tribal and agency consultation, throughout the plan revision process.

The Forest Service is reinitiating Land Management Plan revision under the 2012 planning rule, which will include robust external engagement opportunities throughout the entire process. Using the 2012 planning rule, each Forest Supervisor will sign a separate decision for their respective National Forest's revised Plan. This approach enhances opportunities for local engagement and contributions because the decisions will be made at the local level.

This notice announces the start of the first stage of the process, during which updated information from the public, Tribes, other government agencies, and non-governmental parties will be compiled into an assessment. Information relevant to the assessment includes the status and trends of ecological, social, and economic conditions within the planning area and across the broader landscape. The planning rule requires the responsible official to identify and evaluate existing conditions and trends for 15 topic areas during the assessment (36 CFR 219.6(b); https://www.ecfr.gov/current/title-36/chapter-II/part-219/subpart-A/section-219.6).

During this assessment phase, the Forest Service invites other government agencies, Tribes, non-governmental parties, and the public to share information about social, economic, and environmental conditions of the Blue Mountains Forests and the broader landscape. Existing information about conditions of the three National Forests, supplemented with information gathered through public engagement and tribal consultation, will be integrated into final resource assessments. The Forest Service will host public outreach forums to share progress and gather additional information. To have a successful public participation process, the Forest Service will incorporate methods and tools that provide a spectrum of opportunities for the public to engage throughout the Land Management Plan Revision process. The Forest Service will implement actions that foster community building and are transparent, timely, inclusive, interactive, respectful, and efficient. The resulting Blue Mountains National Forests' Plans will provide for ecosystem services and multiple uses through sustainable, integrated resource management.

Responsible Officials: There will be three responsible officials, one for each forest. The responsible official for the Land Management Plans are Ann Niesen, Malheur Forest Supervisor; Eric Watrud, Umatilla Forest Supervisor; and Shaun McKinney Wallowa-Whitman Forest Supervisor.

Dated: July 26, 2023.
Troy Heithecker,
Associate Deputy Chief, National Forest System.

[FR Doc. 2023-16162 Filed 7-28-23; 8:45 am]

BILLING CODE 3411-15-P